DEPARTMENT OF TRANSPORTATION

Federal Aviation Administration

[Summary Notice No. PE-2010-38]

Petition for Exemption; Reopening of Comment Period

AGENCY: Federal Aviation Administration (FAA), DOT.

ACTION: Notice of petitions for exemption received; Reopening of Comment Period

SUMMARY: In accordance with 14 CFR 11.47(c), the FAA has received a request to extend the comment period due to the temporary removal of the original petition. The FAA will reopen the comment period for 20 days after the date of publication.

DATE: Comments on this petition must identify the petition docket number involved and must be received on or before October 13, 2010.

ADDRESSES: You may send comments identified by Docket Number FAA-2010-0496 using any of the following methods:

• Government-wide rulemaking Web site: Go to http://www.regulations.gov and follow the instructions for sending your comments electronically.

• Mail: Send comments to the Docket Management Facility; U.S. Department of Transportation, 1200 New Jersey Avenue, SE., West Building Ground Floor, Room W12-140, Washington, DC 20590.

• Fax: Fax comments to the Docket Management Facility at 202-493-2251.

• Hand Delivery: Bring comments to the Docket Management Facility in Room W12-140 of the West Building Ground Floor at 1200 New Jersey Avenue, SE., Washington, DC, between 9 a.m. and 5 p.m., Monday through Friday, except Federal holidays.

Privacy: We will post all comments we receive, without change, to http://www.regulations.gov, including any personal information you provide. Using the search function of our docket Web site, anyone can find and read the comments received into any of our dockets, including the name of the individual sending the comment (or signing the comment for an association, business, labor union, etc.). You may review DOT's complete Privacy Act Statement in the Federal Register published on April 11, 2000 (65 FR 19477-78).

Docket: To read background documents or comments received, go to http://www.regulations.gov at any time or to the Docket Management Facility in Room W12-140 of the West Building Ground Floor at 1200 New Jersey Avenue, SE., Washington, DC, between 9 a.m. and 5 p.m., Monday through Friday, except Federal holidays.

FOR FURTHER INFORMATION CONTACT: Mark Forseth, ANM-113, (425) 227-2796, Federal Aviation Administration, 1601 Lind Avenue, SW., Renton, WA 98057-3356, or Katherine Haley, (202) 493-5708, Office of Rulemaking (ARM-203), Federal Aviation Administration, 800 Independence Avenue, SW., Washington, DC 20591. This notice is published pursuant to 14 CFR 11.85.

Issued in Washington, DC, on September 17, 2010.
Dennis Pratte,
Acting Director, Office of Rulemaking.

Petition for Exemption

Docket No.: FAA-2010-0496.

Petitioner: The Boeing Company.

Section of 14 CFR Affected

14 CFR part 25, Appendix K, § K25.1.4(a)(3).

Description of Relief Sought

The comment period for the Summary of Petition Received published on September 1, 2010 (75 FR 53736) and closes on September 21, 2010. The FAA temporarily removed the petition from the docket due to proprietary content. This notice reopens the comment period.

[FR Doc. 2010-23812 Filed 9-22-10; 8:45 am]

BILLING CODE 4910-13-P